NATIONAL SCIENCE FOUNDATION

Notice of Meeting for Astronomy and Astrophysics Advisory Committee; Correction

ACTION: Request change in published advisory committee meeting date; Corrected.

SUMMARY: The National Science Foundation (NSF) published a document in the Federal Register of November 26, 2021, concerning a 1-day, virtual advisory committee meeting for the Astronomy and Astrophysics Advisory Committee. The advisory committee meeting will no longer be held on February 22, 2022. Instead, the 1-day virtual session will be taking place on March 4, 2022.

FOR FURTHER INFORMATION CONTACT: Please contact Crystal Robinson crrobins@nsf.gov or 703-292-8687.

SUPPLEMENTARY INFORMATION:

Correction

In the Federal Register published November 26, 2021, in FR Doc. 2021-25778 (Filed 11-24-21), on page 67501, second column, Date and Time Section, please change the date to March 4, 2022; 12:00 p.m.—4:00 p.m. (VIRTUAL).

Dated: February 7, 2022.
Crystal Robinson,
Committee Management Officer, National Science Foundation.

[FR Doc. 2022-02829 Filed 2-9-22; 8:45 am]

BILLING CODE 7555-01-P